DEPARTMENT OF ENERGY

Federal Energy Regulatory Commission

[Project No. P-12495-002]

Cascade Creek, LLC; Notice of Scoping Meeting and Site Visit and Soliciting Scoping Comments for an Applicant Prepared Environmental Assessment Using the Alternative Licensing Process; Notice of Intent To Prepare Environmental Impact Statement

May 26, 2009.

a. Type of Application: Alternative Licensing Process.

b. Project No.: 12495-002.

c. Applicant: Cascade Creek, LLC.

d. Name of Project: Cascade Creek Hydroelectric Project.

e. Location: On Swan Lake and Cascade Creek, approximately 15 miles northeast of Petersburg, Alaska. The project would occupy lands of the Tongass National Forest.

f. Filed Pursuant to: Federal Power Act, 16 USC 791(a)-825(r).

g. Applicant Contact: Chris Spens, Project Manager, Cascade Creek LLC, 3633 Alderwood Ave., Bellingham, WA 98225; 360-738-9999, e-mail: cspens@thomasbayhydro.com.

h. FERC Contact: David Turner, at (202) 502-6091.

i. Deadline for filing scoping comments: July 20, 2009.

All documents (original and eight copies) should be filed with: Kimberly D. Bose, Secretary, Federal Energy Regulatory Commission, 888 First Street, NE., Washington, DC 20426.

The Commission's Rules of Practice and Procedure require all interveners filing documents with the Commission to serve a copy of that document on each person on the official service list for the project. Further, if an intervener files comments or documents with the Commission relating to the merits of an issue that may affect the responsibilities of a particular resource agency, they must also serve a copy of the document on that resource agency.

Scoping comments may be filed electronically via the Internet in lieu of paper. The Commission strongly encourages electronic filings. See 18 CFR 385.2001(a)(1)(iii) and the instructions on the Commission's Web site (http://www.ferc.gov/docs-filing/ferconline.asp) under the “e-filing” link. For a simpler method of submitting text only comments, click on “Quick Comment.”

j. The project would consist of: (1) Swan Lake, with a high-flood lake surface elevation of 1,520 feet and surface area of 579 acres at the high-flood elevation; (2) a 9-foot-diameter lake siphon on Swan Lake, housed in a 46-foot-long, 34-foot-wide, and 25-foot-high concrete intake control structure that would also provide for a helicopter landing area; (3) approximately 3 miles of predominately-unlined rock tunnel; (4) a 600-foot-long, 9-foot-diameter buried steel penstock; (5) a 120-foot-long, 60-foot-wide powerhouse with three 23-MW vertical-shaft pelton-type turbines; (6) two housing units for construction workers; (7) a 400-foot-long, 40-foot-wide tailrace connecting the powerhouse to Thomas Bay; (8) new dock and/or road facilities; (9) a transmission line beginning at the powerhouse and extending via a combination of overhead and underwater lines to the existing Scow Bay substation in Petersburg; and (10) appurtenant facilities.

k. Scoping Process

Cascade Creek, LLC (Cascade Creek) is using the Federal Energy Regulatory Commission's (Commission) alternative licensing process (ALP). Under the ALP, Cascade Creek will prepare an Applicant Prepared Environmental Assessment (APEA) and license application for the Cascade Creek Hydroelectric Project.

Although Cascade Creek's intent is to prepare an EA, the Commission will prepare an Environmental Impact Statement (EIS) for the project. This meeting will satisfy the NEPA scoping requirements.

The purpose of this notice is to inform you of the opportunity to participate in the upcoming scoping meetings identified below, and to solicit your scoping comments.

Scoping Meetings

Cascade Creek and the Commission staff will hold two scoping meetings, one in the daytime and one in the evening, to help us identify the scope of issues to be addressed in the APEA.

The daytime scoping meeting will focus on resource agency concerns, while the evening scoping meeting is primarily for public input. All interested individuals, organizations, and agencies are invited to attend one or both of the meetings, and to assist the staff in identifying the environmental issues that should be analyzed in the APEA. The times and locations of these meetings are as follows:

Daytime Meeting: Thursday, June 18, 2009, 9 a.m., Tides Inn, 307 North 1st St., Petersburg, AK 99833.

Evening Meeting: Thursday, June 18, 2009, 7 p.m., Tides Inn, 307 North 1st St., Petersburg, AK 99833.

To help focus discussions, Scoping Document 1 was mailed May 22, 2009, outlining the subject areas to be addressed in the APEA to the parties on the mailing list. Copies of the SD1 also will be available at the scoping meetings. SD1 is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659.

You may also register online at http://www.ferc.gov/docs-filing/esubscription.asp to be notified via e-mail of new filings and issuances related to this or other pending projects. For assistance, contact FERC Online Support.

Based on all written comments received, a Scoping Document 2 (SD2) may be issued. SD2 will include a revised list of issues, based on the scoping sessions.

Objectives

At the scoping meetings, the staff will: (1) Summarize the environmental issues tentatively identified for analysis in the APEA; (2) solicit from the meeting participants all available information, especially quantifiable data, on the resources at issue; (3) encourage statements from experts and the public on issues that should be analyzed in the APEA, including viewpoints in opposition to, or in support of, the staff's preliminary views; (4) determine the resource issues to be addressed in the APEA; and (5) identify those issues that require a detailed analysis, as well as those issues that do not require a detailed analysis.

Procedures

The meetings will be recorded by a stenographer and will become part of the formal record of the Commission proceeding on the project.

Individuals, organizations, and agencies with environmental expertise and concerns are encouraged to attend the meetings and to assist Cascade Creek in defining and clarifying the issues to be addressed in the APEA.

Kimberly D. Bose,
Secretary.

[FR Doc. E9-12702 Filed 6-1-09; 8:45 am]

BILLING CODE 6717-01-P